OFFICE OF SCIENCE AND TECHNOLOGY POLICY

Request for Information (RFI) on Strengthening Community Health Through Technology

AGENCY: White House Office of Science and Technology Policy (OSTP).

ACTION: Notice of RFI.

SUMMARY: The White House Office of Science and Technology Policy (OSTP) requests input from community health stakeholders, technology developers, and other interested parties about how digital health technologies are used, or could be used in the future, to transform community health, individual wellness, and health equity. This request is part of an initiative led by OSTP dedicated to Community Connected Health—an effort that will explore and act upon how innovation in science and technology can lower the barriers for all Americans to accessing quality healthcare and lead healthier lives by meeting people where they are in their communities. We are particularly interested in information from community-based health settings and about populations traditionally underserved by healthcare. To support this effort, OSTP seeks information about: Successful models of strengthening community health through digital health technologies within the United States and abroad, barriers to uptake, trends from the COVID-19 pandemic, how user experience is measured, need for tools and training, ideas for potential government action, and effects on health equity.

DATES: Interested persons and organizations are invited to submit comments on or before 5:00 p.m. ET on February 28, 2022.

ADDRESSES: Interested individuals and organizations should submit comments electronically to connectedhealth@ostp.eop.gov and include “Connected Health RFI” in the subject line of the email. While email is preferred, brief voicemail messages may be left at 202-456-3030. Due to time constraints, mailed paper submissions will not be accepted, and electronic submissions received after the deadline cannot be ensured to be incorporated or taken into consideration.

Instructions

Response to this RFI is voluntary. Each responding entity (individual or organization) is requested to submit only one response. OSTP welcomes responses to inform and guide policies and actions related to strengthening community health through digital health technologies. Please feel free to respond to one or as many prompts as you choose. Please be concise with your submissions, which must not exceed 3 pages in 12-point or larger font, with a page number provided on each page. Responses should include the name of the person(s) or organization(s) filing the comment. OSTP invites input from all stakeholders including members of the public, representing all backgrounds and perspectives. In particular, OSTP is interested in input from community health workers (CHWs) and CHW organizations of all kinds; social workers; maternal health workers; telehealth navigators; peer recovery specialists; healthcare providers (please further specify); faith and community-based organizations; community health centers; State, local, tribal, and territorial governments; academic researchers; technology developers; global partners; health insurance providers; and individuals who have used, or are interested in using, digital health technologies or telehealth services. Please indicate which of these stakeholder type best fits you as a respondent. If a comment is submitted on behalf of an organization, the individual respondent's role in the organization may also be provided on a voluntary basis. Comments containing references, studies, research, and other empirical data that are not widely published should include copies or electronic links of the referenced materials. No business proprietary information, copyrighted information, or personally identifiable information should be submitted in response to this RFI. Please be aware that comments submitted in response to this RFI may be posted on OSTP's website or otherwise released publicly.

In accordance with Federal Acquisition Regulation (FAR) 15.202(3), responses to this notice are not offers and cannot be accepted by the Federal Government to form a binding contract. Additionally, those submitting responses are solely responsible for all expenses associated with response preparation.

FOR FURTHER INFORMATION CONTACT: For additional information, please direct questions to Jacqueline Ward at connectedhealth@ostp.eop.gov or leave by voicemail at 202-456-3030.

SUPPLEMENTARY INFORMATION:

Background: Despite decades of investment in the digital health ecosystem, the COVID-19 pandemic illuminated continuing, substantial limitations in the U.S. healthcare systems, including profound disparities in healthcare and associated poorer health outcomes within certain communities. Yet the pandemic has also provided an opportunity for innovation in healthcare delivery across the U.S. and internationally, particularly in community-based settings. As part of OSTP's mission to maximize the benefits of science and technology to advance health and our charge to drive innovation in healthcare and improve health for all Americans, we are seeking information and comments about how digital health technologies are used, or could be used in the future, to improve community health, individual wellness, and health equity. Community health, defined as the collective influence of socioeconomic factors, physical environment, health behaviors, and availability of quality clinical care services, serves as one of the most important drivers of health and wellness for all Americans. This request is part of an initiative dedicated to Community Connected Health—an effort that will explore and act upon how innovation in science and technology can lower the barriers to access quality healthcare and lead healthier lives by meeting people where they are in their communities.

Scope and terminology: OSTP invites input from all interested parties as outlined in the instructions. The term `digital health technologies' should be interpreted broadly as any tool or set of tools that improve health or enable better healthcare delivery by connecting people with other people, with data, or with health information. Examples of this include but are not limited to: Telehealth, remote patient monitoring devices, health trackers, mobile devices (e.g., smart phones, tablets), mobile health apps, and technologies for managing health information including electronic health records.

Information Requested: Respondents may provide information for one or as many topics below as they choose.

1. Successful models within the U.S.: Descriptions of innovative examples or models of how community health providers within the United States successfully use digital health technology to deliver healthcare, enable healthier lifestyles, or reduce health disparities. This can include: The key features of the organizations and/or the digital health technologies that have been most successful, what is needed to support the scale up beyond individual organizations, examples of best practices, examples of important user protections to institute (e.g., privacy best practices), examples of positive user experiences, metrics or measurement strategies of how community health providers measure outcomes or success, and creative ideas or models that may be in nascent stages.

2. Barriers: Specific descriptions of the current barriers faced by individuals or organizations to the use of digital health technologies in community-based settings. It would be very helpful for respondents to indicate how these barriers may align to the following broad categories: Technical (including broadband access), training, costs, reimbursement/policies, buy-in across organization or community, user education/comfort, or other. In the case of barriers that include user comfort/willingness to use the technology, it would be useful for respondents to detail any concerns users might have such as privacy, security, discrimination, the effectiveness of the technology, or other such concerns.

3. Trends from the pandemic: Impressions or data reflecting how the use of digital health technologies (including the use of telemedicine) has changed over the course of the pandemic by individuals, community-based organizations, and in community-based health settings. This includes impressions of what is likely to continue, or not, after the end of the public health emergency or COVID-19 pandemic.

4. User experience: Descriptions of how technology developers, community-based healthcare providers, or other community-based stakeholders consider and/or assess the patient and client experience in the use of health technologies. This includes direct experiences from individuals and patients who have used digital health technologies. We welcome descriptions of how digital health technologies could be better designed with the user experience (e.g., community health workers, healthcare providers, or patients) in mind, as well as aspects of the user experience that could be changed to help remove barriers due to willingness to use (e.g., privacy protections).

5. Tool and training needs: Information about the current technological tools, equipment, and infrastructure needs of community health workers and other community-based health providers. Descriptions about what is needed to train and/or certify community health organizations and workers on the use of digital health technologies for their work are also welcome.

6. Proposed government actions: Opportunities for the Federal Government to support the transformation of community health settings through the uptake of innovative digital health technologies and telemedicine at the community level. Please specify whether these opportunities could take place in the immediate future (i.e., 0-2 years), in the next 5 years, in the next 10 years or beyond.

7. Health Equity: Information about how digital health technologies have been used, or could be used, in community-based settings to drive towards a reduction in health disparities or achieving health equity. This could include any concerns about the health equity impacts of digital health technologies

8. International models: Examples from outside of the United States, particularly from low or middle-income countries, that exemplify innovation at the intersection of healthcare delivery and technology. This can include: The key features of the organizations and/or the digital health technologies that have been most successful, what is needed to support the scale up beyond individual organizations, examples of best practices, examples of important user protections to institute (e.g., privacy best practices), examples of positive user experiences, metrics of how community health providers measure outcomes or success, and creative ideas or models that may be in nascent stages. We encourage responses that extrapolate to how these international models could be applied within the United States healthcare system.

Stacy Murphy,
Operations Manager.

[FR Doc. 2021-28193 Filed 1-4-22; 8:45 am]

BILLING CODE 3270-F2-P